DEPARTMENT OF TRANSPORTATION

Federal Aviation Administration

Notice of Opportunity for Public Comment on a Land Swap Between the Northern Maine Regional Airport and the Presque Isle Industrial Council, Presque Isle, ME

AGENCY: Federal Aviation Administration (FAA), DOT.

ACTION: Request for public comments.

SUMMARY: Notice is being given that the FAA is considering a request from the Northern Maine Regional Airport, for a land swap with the Presque Isle Industrial Council. The on-airport land, currently in use as non-aeronautical development, is to be swapped with four parcels of land along the northern ramp area of airport and land within the northern approach. The land swap will further enhance the protection of the northern approach area while also providing developable land for aeronautical uses.

DATES: Comments must be received on or before January 11, 2018.

ADDRESSES: You may send comments using any of the following methods:

• Federal eRulemaking Portal: Go to http://www.regulations.gov, and follow the instructions on providing comments.

• Fax: 202-493-2251.

• Mail: U.S. Department of Transportation, Docket Operations, M-30, West Building Ground Floor, Room W 12-140, 1200 New Jersey Avenue SE, Washington, DC 20590.

• Hand Delivery: Deliver to mail address above between 9 a.m. and 5 p.m., Monday through Friday, except Federal holidays.

Interested persons may inspect the request and supporting documents by contacting the FAA at the address listed under FOR FURTHER INFORMATION CONTACT.

FOR FURTHER INFORMATION CONTACT: Mr. Jorge E. Panteli, Compliance and Land Use Specialist, Federal Aviation Administration New England Region Airports Division, 1200 District Avenue, Burlington, Massachusetts, 01803. Telephone: 781-238-7618.

Issued in Burlington, Massachusetts, on November 20, 2017.
Kathleen Coffey,
Acting Manager, ANE-600.

[FR Doc. 2017-26771 Filed 12-11-17; 8:45 am]

BILLING CODE 4910-13-P